DEPARTMENT OF THE INTERIOR

Bureau of Land Management

Notice of Intent To Prepare a Plan Amendment to the California Desert Conservation Area Plan of 1980 and an Environmental Assessment (EA) To Evaluate Incorporation of the Management Areas and Research Area Identified in the Flat-Tailed Horned Lizard Rangewide Management Strategy, 2003 Revision, an Arizona-California Conservation Strategy (Strategy) Into Bureau of Land Management's California Desert Area Land Use Plan

AGENCY: Bureau of Land Management, Interior.

ACTION: Notice of intent.

SUMMARY: In accordance with the Federal Land Policy and Management Act of 1976 (43 U.S.C. 1701), as amended; the National Environmental Policy Act of 1969 (NEPA) (42 U.S.C. 4321), as amended; and the Council on Environmental Quality (CEQ) regulations (40 CFR parts 1500-1508), the Bureau of Land Management (BLM) will prepare a plan amendment to the California Desert Conservation Area Plan of 1980 and an Environmental Assessment (EA) to evaluate incorporation of the Management Areas and Research Area identified in the Flat-tailed Horned Lizard Rangewide Management Strategy, 2003 Revision, An Arizona-California Conservation Strategy (Strategy) into BLM's California Desert Area land use plan.

DATES: BLM will accept written and electronic comments on the scope of the plan amendment until August 5, 2004.

ADDRESSES: You may submit comments by the following methods:

Written: Gary Taylor, BLM Strategy Plan Amendment and EA, 1661 South 4th Street, El Centro, CA 92243.

Electronic: gtaylor@ca.blm.gov.

FOR FURTHER INFORMATION, CONTACT: For general information, including information on how to comment, you may contact Gary Taylor, Bureau of Land Management, El Centro Field Office, 1661 South 4th Street, El Centro, CA or phone (760) 768-4400.

SUPPLEMENTARY INFORMATION: Individual respondents may request confidentiality. If you wish BLM to withhold your name or street address, except for the city or town, from public view or from disclosure under the Freedom of Information Act, you must state this prominently at the beginning of your written comment. We will honor requests to the extent allowed by law. BLM will not consider anonymous comments. All submissions from organizations or businesses, and from individuals identifying themselves as representatives or officials of organizations or businesses, will be available for public inspection in their entirety.

Background Information: BLM's El Centro Field Office is one 13 participants in the conservation Strategy. BLM has signed the 2003 Strategy as well as the previous 1997 Strategy. Because the Strategy requires a formal designation of the flat-tailed horned lizard (FTHL) Management Areas (MAs) and Research Area (RA), BLM proposes to evaluate formally incorporating the MAs and RA into BLM's CDCA Plan.

The Strategy identifies and prioritizes numerous planning actions. Planning Actions 1.2, 1.3, 1.4, and 1.6 specifically identify the action to designate and complete the NEPA process for the East Mesa FTHL MA, West Mesa FTHL MA, the Yuha Desert FTHL MA, and Ocotillo Wells FTHL RA as shown in Figures 5-7, 9 in the Strategy. The Management Implementation Schedule identifies these planning actions as “Priority 1: An action that must be taken in the near term to conserve the species and prevent irreversible population declines.” Because the Strategy is clear on the exact locations and boundaries for the MAs this plan amendment and EA will evaluate the East Mesa FTHL MA, West Mesa FTHL MA, the Yuha Desert FTHL MA and the Ocotillo Wells RA as described in the Strategy. BLM has considered changing the boundaries of the MAs and the RA, but has decided to limit the scope of this plan amendment and EA to evaluating the Strategy as signed in 1997 and 2003.

The Plan amendment and EA will identify the preferred action as adopting the 3 MAs and one RA as identified in the Strategy. The EA will also address the no-action alternative of not adopting the MAs and the RA. The no-action alternative will not result in a Plan Amendment. Under the no-action alternative, BLM will continue to apply the Strategy to projects on a case by case basis, but would not formally adopt the MAs and the RA.

As currently envisioned, the Plan amendment and EA will include the resource disciplines listed: wildlife and wildlife habitat including, vegetation, wilderness, ACECs, recreation, social, economic and demographics. The Plan amendment and EA will also address the direct, indirect, and cumulative impacts associated with the Strategy.

The BLM anticipates that the plan amendment process will be completed in approximately four months. Additional opportunities for public involvement, including a schedule of any public meetings, will be announced separately from this notice.

Lynette Elser,
Acting Field Manager.

[FR Doc. 04-13908 Filed 6-18-04; 8:45 am]

BILLING CODE 1610-24-P